DEPARTMENT OF COMMERCE

International Trade Administration

[C-535-001]

Cotton Shop Towels From Pakistan: Extension of Time Limit for Preliminary Results of Countervailing Duty Administrative Review

AGENCY: Import Administration, International Trade Administration, Department of Commerce.

ACTION: Notice of extension of time limit of preliminary results of review.

SUMMARY: The Department of Commerce (the Department) is extending the time limit for the preliminary results of the administrative review of the countervailing duty order on cotton shop towels from Pakistan. This review covers the period January 1, 2000, to December 31, 2000.

EFFECTIVE DATE: November 7, 2001.

FOR FURTHER INFORMATION CONTACT: Gayle Longest or Geoffrey Craig, AD/CVD Enforcement, Office VI, Group II, Import Administration, International Trade Administration, U.S. Department of Commerce, 14th Street and Constitution Avenue, NW., Washington, DC 20230; telephone: (202) 482-3338 or (202) 482-4161, respectively.

Statutory Time Limits

Section 751(a)(3)(A) of the Tariff Act of 1930 (the Act), as amended, requires the Department to make a preliminary determination within 245 days after the last day of the anniversary month of an order/finding for which a review is requested and a final determination within 120 days after the date on which the preliminary determination is published. However, if it is not practicable to complete the review within the time period, section 751(a)(3)(A) of the Act allows the Department to extend the 245-day time limit for the preliminary determination to a maximum of 365 days and for the final determination to extend the 120-day time limit to 180 days (or 300 days if the Department does not extend the time limit for the preliminary determination) from the date of publication of the preliminary results.

Background

On April 30, 2001, the Department published a notice of initiation of administrative review of the countervailing duty on cotton shop towels from Pakistan, covering the period January 1, 2000 through December 31, 2000. See Notice of Initiation of Antidumping and Countervailing Duty Administrative Review, 66 FR 21310 (April 30, 2001). The preliminary results are currently due no later than December 3, 2001.

Extension of Time Limit for Preliminary Results of Review

We determine that it is not practicable to complete the preliminary results of this review within the original time limit of 245 days. Therefore, the Department is extending the 245-day time limit for completion of the preliminary results until no later than March 31, 2002. See Decision Memorandum from Melissa G. Skinner, Office Director for AD/CVD Office VI, to Bernard T. Carreau, Deputy Assistant Secretary, dated concurrently with this notice, which is on public file in the Central Records Unit, Room B-099 of the Department of Commerce. We intend to issue the final results no later than 120 days after the publication of the preliminary results.

This extension is in accordance with section 751(a)(3)(A) of the Act (19 U.S.C. 1675(a)(3)(A)).

Dated: October 31, 2001.
Bernard T. Carreau,
Deputy Assistant Secretary for Import Administration.

[FR Doc. 01-27977 Filed 11-6-01; 8:45 am]

BILLING CODE 3510-DS-P